NUCLEAR REGULATORY COMMISSION

[Docket No. 50-443; License No. NPF-86]

In the Matter of FPL Energy Seabrook, LLC (Seabrook Station, Unit No. 1); Order Approving Application Regarding Proposed Corporate Merger

I

FPL Energy Seabrook, LLC (FPL Energy Seabrook or the licensee) is a holder of Facility Operating License No. NPF-86, which authorizes the possession, use, and operation of the Seabrook Station, Unit 1 (Seabrook or the facility). FPL Energy Seabrook is licensed by the U.S. Nuclear Regulatory Commission (NRC or Commission) to operate the facility. The facility is located at the licensee's site 13 miles south of Portsmouth, New Hampshire.

II

By application dated January 20, 2006 (the application), FPL Energy Seabrook requested that the NRC, pursuant to 10 CFR 50.80, consent to the proposed indirect transfer of control of the license to the extent currently held by FPL Energy Seabrook. The other co-owners of the facility, Hudson Light & Power Department, Massachusetts Municipal Wholesale Electric Company, and Taunton Municipal Light Plant, are not involved in this action.

According to the application filed by FPL Energy Seabrook, FPL Energy Seabrook will continue to own an 88.23 percent ownership interest in the facility.

As stated in the application, in connection with the proposed merger of FPL Energy Seabrook's ultimate parent company, FPL Group, Inc. (FPL Group), and Constellation Energy Group, Inc. (CEG, Inc.), FPL Group will become a wholly owned subsidiary of CEG, Inc. At the closing of the merger, the former shareholders of FPL Group will own approximately 60 percent of the outstanding stock of CEG, Inc., and the premerger shareholders of CEG, Inc., will own the remaining approximately 40 percent. In addition, the CEG, Inc., Board of Directors will be composed of fifteen members, nine of whom will be named by FPL Group, and six of whom will be named by the current CEG, Inc.

Approval of the indirect transfer of the facility operating license was requested by FPL Energy Seabrook pursuant to 10 CFR 50.80. Notice of the request for approval and an opportunity for a hearing was published in the Federal Register on February 22, 2006 (71 FR 9173). No comments or petitions to intervene were received.

Pursuant to 10 CFR 50.80, no license, or any right thereunder, shall be transferred, directly or indirectly, through transfer of control of the license, unless the Commission shall give its consent in writing. Upon review of the information in the application by FPL Energy Seabrook and other information before the Commission, the NRC staff concludes that the proposed merger and resulting indirect transfer of control of the license will not affect the qualifications of FPL Energy Seabrook as a holder of the facility license, and that the indirect transfer of control of the license as held by FPL Energy Seabrook, is otherwise consistent with applicable provisions of law, regulations, and orders issued by the Commission pursuant thereto.

The findings set forth above are supported by a safety evaluation dated August 3, 2006.

III

Accordingly, pursuant to Sections 161b, 161i and 184 of the Atomic Energy Act of 1954, as amended (the Act), 42 U.S.C. 2201(b), 2201(i) and 2234; and 10 CFR 50.80, it is hereby ordered that the application regarding the proposed merger and indirect license transfer is approved, subject to the following condition:

Should the proposed merger not be completed within one year from the date of issuance, this Order shall become null and void, provided, however, upon written application and good cause shown, such date may in writing be extended.

This Order is effective upon issuance.

For further details with respect to this Order, see the application dated January 20, 2006, and the safety evaluation dated August 3, 2006, which are available for public inspection at the Commission's Public Document Room (PDR), located at One White Flint North, Public File Area 01 F21, 11555 Rockville Pike (first floor), Rockville, Maryland and accessible electronically from the Agencywide Documents Access and Management System (ADAMS) Public Electronic Reading Room on the Internet at the NRC Web site, http://www.nrc.gov/reading-rm/adams.html. Persons who do not have access to ADAMS or who encounter problems in accessing the documents located in ADAMS, should contact the NRC PDR Reference staff by telephone at 1-800-397-4209, 301-415-4737, or by E-mail to pdr@nrc.gov.

Dated at Rockville, Maryland this 3rd day of August 2006.
For the Nuclear Regulatory Commission.
Catherine Haney,
Director, Division of Operating Reactor Licensing, Office of Nuclear Reactor Regulation.

[FR Doc. E6-13131 Filed 8-10-06; 8:45 am]

BILLING CODE 7590-01-P